DEPARTMENT OF TRANSPORTATION

Surface Transportation Board

[Docket No. FD 35700]

Chessie Logistics Co., LLC—Acquisition and Operation Exemption—J. Emil Anderson & Son, Inc.

Chessie Logistics Co., LLC (Chessie), a noncarrier, has filed a verified notice of exemption under 49 CFR 1150.31 to acquire from J. Emil Anderson & Son, Inc. (Anderson) and to operate 1.006 miles of private terminal trackage, including 431 feet of siding, in the city of Melrose Park, Cook County, Ill. (the Track). According to Chessie, the Track does not have assigned mileposts. Chessie states that the Track, which is owned by Anderson and currently used by Indiana Harbor Belt Railroad (IHB), is located west of the Mannheim Road crossing at the end of the Harvester Spur, an IHB spur track located between milepost 37.0 and milepost 38.0 off of the IHB main line, just south of the IHB Norpaul Yard. Chessie states that Chessie and Anderson have entered into an agreement under which Chessie is acquiring all of Anderson's rights to the Track as well as assuming its obligation to ship to owners of the adjacent commercial properties.¹

¹ In a prior proceeding, Mannheim Armitage Railway, LLC (Mannheim), a wholly owned subsidiary of Anderson, obtained an exemption to acquire the Track from Anderson and operate it. See Mannheim Armitage Ry.—Acquis. & Operation Exemption—Certain Trackage Rights of J. Emil Anderson & Son, Inc. in Melrose Park, Cook Cnty., Ill., FD 35540 (STB served Sept. 9, 2011). According to Chessie, however, that transaction was never consummated, and Anderson now is seeking to transfer all rights to the Track to Chessie instead.

Unless stayed, the effective date of the exemption will be December 21, 2012 (30 days after the verified exemption was filed).² Chessie states that it expects to consummate the proposed transaction shortly after the effective date of the exemption.

² Chessie filed its verified notice of exemption on November 20, 2012, and supplemented it the next day. Therefore, November 21, 2012, the date of Chessie's supplement, will be considered the filing date for purposes of calculating the effective date of the exemption.

Chessie certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than December 14, 2012 (at least seven days before the exemption becomes effective).

An original and 10 copies of all pleadings, referring to Docket No. FD 35700, must be filed with the Surface Transportation Board, 395 E Street SW., Washington, DC 20423-0001. In addition, a copy of each pleading must be served on Ariel A. Erbacher, Legal Counsel, Chessie Logistics Co., LLC, 1001 Green Bay Rd., Unit 204, Winnetka, IL 60093.

Board decisions and notices are available on our Web site at “www.stb.dot.gov.”

Decided: December 3, 2012.
By the Board, Rachel D. Campbell, Director, Office of Proceedings.
Derrick A. Gardner,
Clearance Clerk.

[FR Doc. 2012-29505 Filed 12-5-12; 8:45 am]

BILLING CODE 4915-01-P